DEPARTMENT OF ENERGY

Federal Energy Regulatory Commission

[Docket No. ER01-641-000]

Cinergy Services, Inc.; Notice of Filing

December 15, 2000.

Take notice that on December 11, 2000, Cinergy Services, Inc. submitted an Interconnection Agreement into, by and between Cinergy Services, Inc. (Cinergy) and Cogentrix Lawrence County, LLC (Cogentrix Lawrence County), which is dated November 6, 2000.

The Interconnection Agreement between the parties provides for the interconnection of a generation station with the transmission system of PSI Energy, Inc. (PSI), a Cinergy utility operating company, and further defines the continuing responsibilities and obligations of the parties with respect thereto.

Cinergy states that it has served a copy of its filing upon the Indiana Utility Regulatory Commission and Cogentrix Lawrence County.

Any person desiring to be heard or to protest such filing should file a motion to intervene or protests with the Federal Energy Regulatory Commission, 888 First Street, NE., Washington DC 20426, in accordance with Rules 211 and 214 of the Commission's Rules of Practice and Procedure (18 CFR 385.211 and 385.214). All such motions and protests should be filed on or before January 2, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Comments and protests may be filed electronically via the internet in lieu of paper. See, 18 CFR 385.2001(a)(1)(iii) and the instructions on the Commission's web site at ­http://www.ferc.fed.us/efi/doorbell.htm.

David P. Boergers,
Secretary.

[FR Doc. 00-32537 Filed 12-20-00; 8:45 am]

BILLING CODE 6717-01-M